SOCIAL SECURITY ADMINISTRATION

[Docket No. SSA-2025-0387]

Privacy Act of 1974; System of Records

AGENCY: Social Security Administration (SSA).

ACTION: Notice of a modified system of records.

SUMMARY: In accordance with the Privacy Act of 1974, we are issuing public notice of our intent to modify our existing systems of records listed below under the System Name and Number section. This notice publishes details of the modified systems as set forth below under the caption, SUPPLEMENTARY INFORMATION.

DATES: The system of records notice (SORN) is applicable upon its publication in today's Federal Register, with the exception of the new routine use, which is effective December 26, 2025.

We invite public comment on the addition of the routine use. In accordance with the Privacy Act of 1974, we are providing the public a 30-day period in which to submit comments. Therefore, please submit any comments by December 26, 2025.

ADDRESSES: The public, Office of Management and Budget (OMB), and Congress may comment on this publication by writing to the Head of Privacy and Disclosure Policy, Privacy and Disclosure Policy, Law and Policy, SSA, Room G-401 West High Rise, 6401 Security Boulevard, Baltimore, Maryland 21235-6401, or through the Federal e-Rulemaking Portal at https://www.regulations.gov. Please reference docket number SSA-2025-0387. All comments we receive will be available for public inspection at the above address, and we will post them to https://www.regulations.gov.

FOR FURTHER INFORMATION CONTACT: Tristin Dorsey, Government Information Specialist, Privacy Implementation Division, Privacy and Disclosure Policy, Law and Policy, SSA, Room G-401 West High Rise, 6401 Security Boulevard, Baltimore, Maryland 21235-6401, telephone: (410) 966-5855, email: OGC.OPD.SORN@ssa.gov.

SUPPLEMENTARY INFORMATION: Executive Order 14249, Protecting America's Bank Account Against Fraud, Waste, and Abuse, requires agencies to take action to defend against financial fraud and prevent improper payments in collaboration with the U.S. Department of the Treasury. To assist SSA in administering the Social Security Act, we are adding the following routine use to the systems of records listed below to permit disclosure to Department of Treasury to review SSA's payment and award eligibility through the Do Not Pay Working System for the purpose of identifying, preventing, or recouping fraud and improper payments when disclosure meets the requirements in 20 CFR 401.150(c):

To the U.S. Department of the Treasury, when disclosure of the information is relevant to review SSA's payment and award eligibility through the Do Not Pay Working System for the purposes of identifying, preventing or recouping improper payments to an applicant for, or recipient of, Federal funds disbursed by a state (meaning a state of the United States, the District of Columbia, a territory or possession of the United States, or a federally-recognized Indian tribe) in a state-administered, federally-funded program. This routine use will be applied when disclosure meets the requirements in 20 CFR 401.150(c).

SYSTEM NAME AND NUMBER:

System number and name | Routine uses | Federal Register Citation No./ publication date
60-0003—Attorney Fee File | No. 11 | 71 FR 1803, 01/11/06. 72 FR 69723, 12/10/07. 83 FR 54969, 11/01/18. 89 FR 14553, 02/27/24. 89 FR 95894, 12/03/24.
60-0044—National Disability Determination Services File | No. 12 | 71 FR 1810, 01/11/06. 72 FR 69723, 12/10/07. 83 FR 54969, 11/01/18. 89 FR 825, 01/05/24.
60-0045—Black Lung Payment System | No. 16 | 52 FR 9543, 03/25/87. 59 FR 46439, 09/08/94. 60 FR 52948, 10/11/95. 72 FR 69723, 12/10/07. 83 FR 54969, 11/01/18.
60-0050—Completed Determination Record—Continuing Disability Determinations | No. 42 | 71 FR 1813, 01/11/06. 72 FR 69723, 12/10/07. 83 FR 54969, 11/01/18. 84 FR 17907, 04/26/19. 89 FR 825, 01/05/24.
60-0059—Earnings Recording and Self-Employment Income System | No. 32 | 71 FR 1819, 01/11/06. 78 FR 40542, 07/05/13. 83 FR 54969, 11/01/18. 89 FR 825, 01/05/24.
60-0089—Claims Folders System | No. 40 | 84 FR 58422, 10/31/19. 89 FR 14553, 02/27/24. 89 FR 14554, 02/27/24. 89 FR 95894, 12/03/24.
60-0090—Master Beneficiary Record | No. 44 | 71 FR 1826, 01/11/06. 72 FR 69723, 12/10/07. 78 FR 40542, 07/05/13. 83 FR 31250, 07/03/18. 83 FR 31251, 07/03/18.
|  | 83 FR 54969, 11/01/18. 89 FR 825, 01/05/24. 89 FR 14554, 02/27/24.
60-0094—Recovery of Overpayments, Accounting and Reporting/Debt Management System | No. 13 | 70 FR 49354, 08/23/05. 72 FR 69723, 12/10/07. 83 FR 31250, 07/03/18. 83 FR 54969, 11/01/18.
60-0103—Supplemental Security Income Record and Special Veterans Benefits | No. 42 | 71 FR 1830, 01/11/06. 72 FR 69723, 12/10/07. 83 FR 31250, 07/03/18. 83 FR 31251, 07/03/18.
|  | 83 FR 54969, 11/01/18. 89 FR 825, 01/05/24. 89 FR 14554, 02/27/24.
60-0222—Master Representative Payee File | No. 25 | 83 FR 55228, 11/02/18.
60-0231—Social Security Online Accounting and Reporting System | No. 20 | 85 FR 2224, 01/14/20.
60-0268—Medicare Part B Buy-In Information System | No. 11 | 64 FR 10173, 03/02/99. 72 FR 69723, 12/10/07. 83 FR 54969, 11/01/18.
60-0269—Prisoner Update Processing System | No. 14 | 64 FR 11076, 09/08/99. 72 FR 69723, 12/10/07. 78 FR 40542, 07/05/13. 83 FR 54969, 11/01/18.
60-0273—Social Security Title VIII Special Veterans Benefits Claims Development and Management Information System | No. 17 | 65 FR 13803, 03/14/00. 65 FR 46997, 08/01/00. 72 FR 69723, 12/10/07. 83 FR 54969, 11/01/18.
60-0295—Ticket-to-Work and Self-Sufficiency Program Payment Database | No. 11 | 66 FR 17985, 04/04/01. 72 FR 69723, 12/10/07. 83 FR 54969, 11/01/18. 89 FR 825, 01/05/24.
60-0305—SSA Mass Transportation Subsidy Program | No. 14 | 67 FR 44658, 07/03/02. 72 FR 69723, 12/10/07. 83 FR 54969, 11/01/18.
60-0310—Medicare Savings Programs Information System | No. 11 | 69 FR 17019, 03/31/04. 72 FR 69723, 12/10/07. 83 FR 54969, 11/01/18.
60-0321—Medicare Database File | No. 24 | 71 FR 42159, 07/25/06. 72 FR 69723, 12/10/07. 83 FR 54969, 11/01/18.
60-0325—Appointed Representative File | No. 15 | 74 FR 51940, 10/08/09. 83 FR 54969, 11/01/18.

We are not republishing the system of records notices in their entirety. Instead, we are republishing only the identification number; the system of records name; the number of the new routine use; and the issue of the Federal Register in which the system of records notice was last published in full, including the subsequent modification to the system of records notice's publication date and page number.

SECURITY CLASSIFICATION:

Unclassified.

SYSTEM LOCATION:

SSA provides the address of the component and system manager responsible for each system in the Federal Register notices listed above.

SYSTEM MANAGER(S):

SSA provides the title, business address, and contact information of the agency official who is responsible for the system in the Federal Register notices listed above.

HISTORY:

SSA provides the citation to the last fully published Federal Register notices, as well as last subsequent modification notice to the system of records notices listed above.

In accordance with 5 U.S.C. 552a(r), we have provided a report to OMB and Congress on this modified system of records.

Matthew Ramsey,
Head of Privacy and Disclosure Policy, Law and Policy.

[FR Doc. 2025-20931 Filed 11-24-25; 8:45 am]

BILLING CODE 4191-02-P